DEPARTMENT OF COMMERCE

National Oceanic and Atmospheric Administration

50 CFR Part 622

[Docket No. 100217097-1757-02; RTID 0648-XS019]

Reef Fish Fishery of the Gulf of Mexico; 2019 Commercial and Recreational Accountability Measure and Closures for Gulf of Mexico Lane Snapper

AGENCY: National Marine Fisheries Service (NMFS), National Oceanic and Atmospheric Administration (NOAA), Commerce.

ACTION: Temporary rule; closure.

SUMMARY: NMFS implements an accountability measure (AM) for the lane snapper commercial and recreational sectors in the exclusive economic zone (EEZ) of the Gulf of Mexico (Gulf) for the 2019 fishing year through this temporary rule. NMFS has projected that the 2019 stock annual catch limit (ACL) for Gulf lane snapper has been met. Therefore, NMFS closes the commercial and recreational sectors for Gulf lane snapper on December 13, 2019, and they will remain closed through the end of the current fishing year on December 31, 2019. These closures are necessary to protect the Gulf lane snapper resource.

DATES: This temporary rule is effective from 12:01 a.m., local time, on December 13, 2019, until 12:01 a.m., local time, on January 1, 2020.

FOR FURTHER INFORMATION CONTACT: Kelli O'Donnell, NMFS Southeast Regional Office, telephone: 727-824-5305, email: Kelli.ODonnell@noaa.gov.

SUPPLEMENTARY INFORMATION: NMFS manages the Gulf reef fish fishery, which includes lane snapper, under the Fishery Management Plan for the Reef Fish Resources of the Gulf of Mexico (FMP). The FMP was prepared by the Gulf of Mexico Fishery Management Council (Council) and is implemented by NMFS under the authority of the Magnuson-Stevens Fishery Conservation and Management Act (Magnuson-Stevens Act) through regulations at 50 CFR part 622. All lane snapper weights discussed in this temporary rule are in round weight.

The stock annual catch limit (ACL) for Gulf lane snapper is 301,000 lb (136,531 kg). As specified in 50 CFR 622.41(k), if during a fishing year the sum of the commercial and recreational lane snapper landings exceeds the stock ACL, then during the following fishing year, if the sum of commercial and recreational landings reaches or is projected to reach the stock ACL, NMFS is required to close the commercial and recreational sectors for the remainder of that fishing year. In the 2018 fishing year, lane snapper landings exceeded the stock ACL by 58,551 lb (26,558 kg). For the 2019, fishing year, NMFS has determined that the 2019 stock ACL for Gulf lane snapper has been met. Accordingly, this temporary rule closes the commercial and recreational sectors for Gulf lane snapper effective at 12:01 a.m., local time, on December 13, 2019 and both sectors will remain closed through the end of the current fishing year on December 31, 2019.

During the commercial and recreational closures, the commercial sale or purchase of lane snapper taken from the Gulf EEZ is prohibited and the recreational bag and possession limits for lane snapper in or from the Gulf EEZ are zero. The prohibition on possession of Gulf lane snapper also applies in Gulf state waters for a vessel issued a valid Federal charter vessel/headboat permit for Gulf reef fish. During the closures, the operator of a vessel with a valid commercial vessel permit for Gulf reef fish having lane snapper on board must have landed and bartered, traded, or sold such lane snapper prior to 12:01 a.m., local time, on December 13, 2019. The prohibition on the sale or purchase of lane snapper does not apply to fish that were harvested, landed ashore, and sold prior to 12:01 a.m., local time, on December 13, 2019, and were held in cold storage by a dealer or processor.

Classification

The Regional Administrator for the NMFS Southeast Region has determined this temporary rule is necessary for the conservation and management of Gulf lane snapper and is consistent with the Magnuson-Stevens Act and other applicable laws.

This action is taken under 50 CFR 622.41(k) and is exempt from review under Executive Order 12866. These measures are exempt from the procedures of the Regulatory Flexibility Act because the temporary rule is issued without opportunity for prior notice and comment.

This action responds to the best scientific information available. The Assistant Administrator for NOAA Fisheries (AA) finds that the need to immediately implement this action to close the commercial and recreational sectors for lane snapper constitutes good cause to waive the requirements to provide prior notice and opportunity for public comment on this temporary rule pursuant to the authority set forth in 5 U.S.C. 553(b)(B), because such procedures are unnecessary and contrary to the public interest. Such procedures are unnecessary because the rule establishing the closure provisions was already subject to notice and comment, and all that remains is to notify the public of the closures. Such procedures are contrary to the public interest because of the need to immediately implement this action to protect lane snapper. Prior notice and opportunity for public comment would require time and would potentially allow the sectors to further exceed the stock ACL.

Authority: 16 U.S.C. 1801 et seq.

Dated: December 10, 2019.
Jennifer M. Wallace,
Acting Director, Office of Sustainable Fisheries, National Marine Fisheries Service.

[FR Doc. 2019-26933 Filed 12-10-19; 4:15 pm]

BILLING CODE 3510-22-P